Proclamation 10146 of February 3, 2021

National Black History Month, 2021

By the President of the United States of America

A Proclamation

This February, during Black History Month, I call on the American people to honor the history and achievements of Black Americans and to reflect on the centuries of struggle that have brought us to this time of reckoning, redemption, and hope.

We have never fully lived up to the founding principles of this Nation—that all people are created equal and have the right to be treated equally throughout their lives. But in the Biden-Harris Administration, we are committed to fulfilling that promise for all Americans.

I am proud to celebrate Black History Month with an Administration that looks like America—one that reflects the full talents and diversity of the American people and that heralds many firsts, including the first Black Vice President of the United States and the first Black Secretary of Defense, among other firsts in a cabinet that is comprised of more Americans of color than any other in our history.

It is long past time to confront deep racial inequities and the systemic racism that continue to plague our Nation. A knee to the neck of justice opened the eyes of millions of Americans and launched a summer of protest and stirred the Nation's conscience.

A pandemic has further ripped a path of destruction through every community in America, but we see its acute devastation among Black Americans who are dying, losing jobs, and closing businesses at disproportionate rates in the dual crisis of the pandemic and the economy.

We saw how a broad coalition of Americans of every race and background registered and voted—more people than in any other election in our Nation's history—to heal these wounds and unite and move forward as a Nation.

But also less than 1 month after the attack on the Capitol, on our very democracy, by a mob of insurrectionists—of extremists and white supremacists—a bookend of the last 4 years and the hate that marched from the streets of Charlottesville, and that shows we remain in a battle for the soul of America.

We must bring to our work a seriousness of purpose and urgency. That is why we are putting our response to COVID-19 on a war footing and marshalling every resource we have to contain the pandemic, deliver economic relief to millions of Americans who desperately need it, and build back better than ever before.

That is why we are also launching a first-ever whole-government-approach to advancing racial justice and equity across our Administration—in health care, education, housing, our economy, our justice system, and in our electoral process. We do so not only because it is the right thing to do, but because it is the smart thing to do, benefitting all of us in this Nation.

We do so because the soul of our Nation will be troubled as long as systemic racism is allowed to persist. It is corrosive. It is destructive. It is costly. We are not just morally deprived because of systemic racism, we are also less prosperous, less successful, and less secure as a Nation.

We must change. It will take time. But I firmly believe the Nation is ready to make racial justice and equity part of what we do today, tomorrow, and every day. I urge my fellow Americans to honor the history made by Black Americans and to continue the good and necessary work to perfect our Union for every American.

NOW, THEREFORE, I, JOSEPH R. BIDEN JR., President of the United States of America, by virtue of the authority vested in me by the Constitution and the laws of the United States, do hereby proclaim February 2021 as National Black History Month. I call upon public officials, educators, librarians, and all the people of the United States to observe this month with appropriate programs, ceremonies, and activities.

IN WITNESS WHEREOF, I have hereunto set my hand this third day of February, in the year of our Lord two thousand twenty-one, and of the Independence of the United States of America the two hundred and forty-fifth.

[FR Doc. 2021-02676

Filed 2-5-21; 8:45 am]

Billing code 3295-F1-P